DEPARTMENT OF LABOR

Occupational Safety and Health Administration

[Docket No. OSHA-2019-0009]

DEKRA Certification Inc.: Grant of Expansion of Recognition and Modification to the NRTL Program's List of Appropriate Test Standards

AGENCY: Occupational Safety and Health Administration (OSHA), Labor.

ACTION: Notice.

SUMMARY: In this notice, OSHA announces the final decision to expand the scope of recognition for DEKRA Certification Inc., as a Nationally Recognized Testing Laboratory (NRTL). Additionally, OSHA announces the final decision to add two standards to the NRTL Program's List of Appropriate Test Standards.

DATES: The expansion of the scope of recognition becomes effective on December 31, 2025.

FOR FURTHER INFORMATION CONTACT: Information regarding this notice is available from the following sources:

Press inquiries: Contact Mr. Frank Meilinger, Director, OSHA Office of Communications, U.S. Department of Labor; telephone (202) 693-1999 or email meilinger.francis2@dol.gov.

General and technical information: Contact Mr. Kevin Robinson, Director, Office of Technical Programs and Coordination Activities, Directorate of Technical Support and Emergency Management, Occupational Safety and Health Administration, U.S. Department of Labor; telephone (202) 693-1911 or email robinson.kevin@dol.gov.

SUPPLEMENTARY INFORMATION:

I. Notice of Final Decision

OSHA hereby gives notice of the expansion of the scope of recognition of DEKRA Certification Inc. (DEKRA) as a NRTL. DEKRA's expansion covers the addition of thirty-two test standards and one recognized test site to the NRTL scope of recognition. The test site is located in Dresden, Germany.

OSHA's recognition of a NRTL signifies that the organization meets the requirements specified in 29 CFR 1910.7. Recognition is an acknowledgment that the organization can perform independent safety testing and certification of the specific products covered within the scope of recognition. Each NRTL's scope of recognition includes: (1) the type of products the NRTL may test, with each type specified by the applicable test standard; and (2) the recognized site(s) that has/have the technical capability to perform the product-testing and product-certification activities for test standards within the NRTL's scope. Recognition is not a delegation or grant of government authority; however, recognition enables employers to use products approved by the NRTL to meet OSHA standards that require product testing and certification.

The agency processes applications by a NRTL for initial recognition and for an expansion or renewal of this recognition, following requirements in Appendix A to 29 CFR 1910.7. This appendix requires that the agency publish two notices in the Federal Register in processing an application. In the first notice, OSHA announces the application and provides a preliminary finding. In the second notice, the agency provides a final decision on the application. These notices set forth the NRTL's scope of recognition or modifications of that scope. OSHA maintains an informational web page for each NRTL, including DEKRA, which details the NRTL's scope of recognition. These pages are available from the OSHA website at http://www.osha.gov/dts/otpca/nrtl/index.html.

DEKRA submitted an application to OSHA for expansion of the NRTL scope of recognition on March 19, 2024 (OSHA-2019-0009-0023), requesting the addition of thirty-two test standards and one additional test site located at: Enderstrasse 92b, 02177 Dresden, Germany. OSHA staff performed a detailed analysis of the application packet and reviewed other pertinent information. OSHA staff performed an on-site review of DEKRA's testing facility at DEKRA Dresden, Enderstrasse 92b, 02177 Dresden, Germany associated with this application on March 3-4, 2025, in which assessors found some nonconformances with the requirements of 29 CFR 1910.7. DEKRA addressed these issues sufficiently, and OSHA staff preliminarily determined that OSHA should grant the application.

OSHA published the preliminary notice announcing DEKRA's expansion application in the Federal Register on August 22, 2025 (90 FR 41131). The agency requested comments by September 8, 2025, but it received no comments in response to this notice.

To obtain or review copies of all public documents pertaining to the DEKRA's application, go to http://www.regulations.gov or contact the Docket Office, Occupational Safety and Health Administration, U.S. Department of Labor. Docket No. OSHA-2019-0009 contains all materials in the record concerning DEKRA's recognition. Contact the OSHA Docket Office at (202) 693-2350 (TTY (877) 889-5627) for assistance in locating docket submissions.

II. Final Decision and Order

OSHA staff examined DEKRA's expansion application, conducted a detailed on-site assessment, and examined other pertinent information. Based on its review of this evidence, OSHA finds that DEKRA meets the requirements of 29 CFR 1910.7 for expansion of its recognition, subject to the limitations and conditions listed in this notice. OSHA, therefore, is proceeding with this final notice to grant DEKRA's expanded scope of recognition. OSHA limits the expansion of DEKRA's recognition to include the additional testing site in Dresden, Germany and thirty-two additional testing standards. OSHA's recognition of the site limits DEKRA to performing product testing and certifications only to the test standards for which the site has the proper capability and programs, and for test standards in DEKRA's scope of recognition. This limitation is consistent with the recognition that OSHA grants to other NRTLs that operate multiple sites. Additionally, OSHA grants DEKRA expansion of the NRTL scope of recognition to include the test standards listed below in Table 1.

Table 1—List of Appropriate Test Standards for Inclusion in DEKRA's NRTL Scope of Recognition
Test standard | Test standard title
UL 60335-1 | Safety of Household and Similar Electrical Appliances, Part 1: General Requirements.
* UL 60335-2-69 | Household and Similar Electrical Appliances—Safety—Part 2-69: Particular Requirements for Wet and Dry Vacuum Cleaners, including Power Brush, for Commercial Use.
UL 60335-2-72 | Household and Similar Electrical Appliances—Safety—Part 2-72: Particular Requirements for Floor Treatment Machines With or Without Traction Drive, for Commercial Use.
* UL 60335-2-79 | Household and Similar Electrical Appliances—Safety—Part 2-79: Particular Requirements for High Pressure Cleaners and Steam Cleaners.
UL 60745-1 | Hand-Held Motor-Operated Electric Tools—Safety—Part 1: General Requirements.
UL 60745-2-3 | Hand-Held Motor-Operated Electric Tools—Safety—Part 2-3: Particular Requirements for Grinders, Polishers and Disk-Type Sanders.
UL 60745-2-6 | Hand-Held Motor-Operated Electric Tools—Safety—Part 2-6: Particular Requirements for Hammers.
UL 60745-2-12 | Hand-Held Motor-Operated Electric Tools—Safety—Part 2-12: Particular Requirements for Concrete Vibrators.
UL 60745-2-16 | Hand-Held Motor-Operated Electric Tools—Safety—Part 2-16: Particular Requirements for Tackers.
UL 60745-2-18 | Hand-Held Motor-Operated Electric Tools—Safety—Part 2-18: Particular Requirements for Strapping Tools.
UL 60745-2-19 | Hand-Held Motor-Operated Electric Tools—Safety—Part 2-19: Particular Requirements for Jointers.
UL 60745-2-20 | Hand-Held Motor-Operated Electric Tools—Safety—Part 2-20: Particular Requirements for Band Saws.
UL 60745-2-22 | Hand-Held Motor-Operated Electric Tools—Safety—Part 2-22: Particular Requirements for Cut-Off Machines.
UL 62841-1 | Electric Motor-Operated Hand-Held Tools, Transportable Tools and Lawn and Garden Machinery—Safety—Part 1: General Requirements.
UL 62841-2-1 | Electric Motor-Operated Hand-Held Tools, Transportable Tools and Lawn and Garden Machinery—Safety—Part 2-1: Particular Requirements for Hand-Held Drills and Impact Drills.
UL 62841-2-2 | Electric Motor-Operated Hand-Held Tools, Transportable Tools and Lawn and Garden Machinery—Safety—Part 2-2: Particular Requirements for Hand-Held Screwdrivers and Impact Wrenches.
UL 62841-2-4 | Electric Motor-Operated Hand-Held Tools, Transportable Tools and Lawn and Garden Machinery—Safety—Part 2-4: Particular Requirements for Hand-Held Sanders and Polishers Other Than Disc Type.
UL 62841-2-5 | Electric Motor-Operated Hand-Held Tools, Transportable Tools and Lawn and Garden Machinery—Safety—Part 2-5: Particular Requirements for Hand-Held Circular Saws.
UL 62841-2-8 | Electric Motor-Operated Hand-Held Tools, Transportable Tools and Lawn and Garden Machinery—Safety—Part 2-8: Particular Requirements for Hand-Held Shears and Nibblers.
UL 62841-2-9 | Electric Motor-Operated Hand-Held Tools, Transportable Tools and Lawn and Garden Machinery—Safety—Part 2-9: Particular Requirements for Hand-Held Tappers and Threaders.
UL 62841-2-10 | Electric Motor-Operated Hand-Held Tools, Transportable Tools and Lawn and Garden Machinery—Part 2-10: Particular Requirements for Hand-Held Mixers.
UL 62841-2-11 | Electric Motor-Operated Hand-Held Tools, Transportable Tools and Lawn and Garden Machinery—Part 2-11: Particular Requirements for Hand-Held Reciprocating Saws.
UL 62841-2-14 | Electric Motor-Operated Hand-Held Tools, Transportable Tools and Lawn and Garden Machinery—Safety—Part 2-14: Particular Requirements for Hand-Held Planers.
UL 62841-2-17 | Electric Motor-Operated Hand-Held Tools, Transportable Tools and Lawn and Garden Machinery—Safety—Part 2-17: Particular Requirements for Hand-Held Routers.
UL 62841-2-21 | Electric Motor-Operated Hand-Held Tools, Transportable Tools and Lawn and Garden Machinery—Part 2-21: Particular Requirements for Hand-Held Drain Cleaners.
UL 62841-3-1 | Electric Motor-Operated Hand-Held Tools, Transportable Tools and Lawn and Garden Machinery—Safety—Part 3-1: Particular Requirements for Transportable Table Saws.
UL 62841-3-4 | Electric Motor-Operated Hand-Held Tools, Transportable Tools and Lawn and Garden Machinery—Safety—Part 3-4: Particular Requirements for Transportable Bench Grinders.
UL 62841-3-6 | Electric Motor-Operated Hand-Held Tools, Transportable Tools and Lawn and Garden Machinery—Safety—Part 3-6: Particular Requirements for Transportable Diamond Drills with Liquid System.
UL 62841-3-9 | Electric Motor-Operated Hand-Held Tools, Transportable Tools and Lawn and Garden Machinery—Safety—Part 3-9: Particular Requirements for Transportable Mitre Saws.
UL 62841-3-10 | Electric Motor-Operated Hand-Held Tools, Transportable Tools and Lawn and Garden Machinery—Safety—Part 3-10: Particular Requirements for Transportable Cut-Off Machines.
UL 62841-4-1 | Electric Motor-Operated Hand-Held Tools, Transportable Tools and Lawn and Garden Machinery—Safety—Part 4-1: Particular Requirements for Chain Saws.
UL 62841-4-2 | Electric Motor-Operated Hand-Held Tools, Transportable Tools and Lawn and Garden Machinery—Safety—Part 4-2: Particular Requirements for Hedge Trimmers.
* Represents the standards that OSHA is adding to the NRTL Program's List of Appropriate Test Standards.

OSHA's recognition of any NRTL for a particular test standard is limited to equipment or materials for which OSHA standards require third-party testing and certification before using them in the workplace. Consequently, if a test standard also covers any products for which OSHA does not require such testing and certification, a NRTL's scope of recognition does not include these products.

In this notice, OSHA also announces the final decision to add two new test standards to the NRTL Program's List of Appropriate Test Standards. Table 2 below lists the standards that are new to the NRTL Program. OSHA has determined that these test standards are appropriate test standards and will add them to the NRTL Program's List of Appropriate Test Standards.

Table 2—Standards OSHA Is Adding to the NRTL Program's List of Appropriate Test Standards
Test standard | Test standard title
UL 60335-2-69 | Household and Similar Electrical Appliances—Safety—Part 2-69: Particular Requirements for Wet and Dry Vacuum Cleaners, including Power Brush, for Commercial Use
UL 60335-2-79 | Household and Similar Electrical Appliances—Safety—Part 2-79: Particular Requirements for High Pressure Cleaners and Steam Cleaners

The American National Standards Institute (ANSI) may approve the test standards listed above as American National Standards. However, for convenience, we may use the designation of the standards-developing organization for the standard as opposed to the ANSI designation. Under the NRTL Program's policy (see OSHA Instruction CPL 1-0.3, Appendix C, paragraph XIV), any NRTL recognized for a particular test standard may use either the proprietary version of the test standard or the ANSI version of that standard. Contact ANSI to determine whether a test standard is currently ANSI-approved.

A. Conditions

In addition to those conditions already required by 29 CFR 1910.7, DEKRA must abide by the following conditions of the recognition:

1. DEKRA must inform OSHA as soon as possible, in writing, of any change of ownership, facilities, or key personnel, and of any major change in its operations as a NRTL, and provide details of the change(s);

2. DEKRA must meet all the terms of its recognition and comply with all OSHA policies pertaining to this recognition; and

3. DEKRA must continue to meet the requirements for recognition, including all previously published conditions on DEKRA's scope of recognition, in all areas for which it has recognition.

Pursuant to the authority in 29 CFR 1910.7, OSHA hereby expands the scope of recognition of DEKRA as a NRTL, subject to the limitations and conditions specified above. Additionally, OSHA will add two standards to the NRTL Program's List of Appropriate Test Standards.

III. Authority and Signature

Amanda Laihow, Principal Deputy Assistant Secretary of Labor for Occupational Safety and Health, 200 Constitution Avenue NW, Washington, DC 20210, authorized the preparation of this notice. Accordingly, the agency is issuing this notice pursuant to 29 U.S.C. 657(g)(2), Secretary of Labor's Order No. 7-2025 (90 FR 27878; June 30, 2025), and 29 CFR 1910.7.

Signed at Washington, DC, on December 22, 2025.
Amanda Laihow,
Principal Deputy Assistant Secretary of Labor for Occupational Safety and Health.

[FR Doc. 2025-24078 Filed 12-30-25; 8:45 am]

BILLING CODE 4510-26-P